ENVIRONMENTAL PROTECTION AGENCY

40 CFR Part 52

[EPA-R06-OAR-2016-0611; FRL-9959-42-Region 6]

Promulgation of Air Quality Implementation Plans; State of Texas; Regional Haze and Interstate Visibility Transport Federal Implementation Plan

AGENCY: Environmental Protection Agency (EPA).

ACTION: Proposed rule; extension of comment period.

SUMMARY: In the January 4, 2017 Federal Register, the Environmental Protection Agency (EPA) requested comments by March 6, 2017 on a proposed rule pertaining to Clean Air Act requirements for regional haze and interstate visibility transport. This proposal would promulgate a Federal Implementation Plan (FIP) to address the Clean Air Act requirement for eligible electric generating units (EGUs) in Texas to install and operate the Best Available Retrofit Technology (BART). This proposal would also disapprove a portion of the Texas State Implementation Plan (SIP) that evaluated BART for Particulate Matter (PM) at EGUs. In addition, this proposal reconsiders earlier disapprovals of portions of several SIP revisions submitted to satisfy the requirement to address interstate visibility transport for six National Ambient Air Quality Standards (NAAQS), newly proposing that they be disapproved and that the proposed EGU BART FIP would satisfy any FIP obligation for interstate visibility transport that would follow from those disapprovals. EPA is extending the public comment period for this proposal until May 5, 2017.

DATES: Written comments must be received on or before May 5, 2017.

ADDRESSES: Submit your comments, identified by Docket No. EPA-R06-OAR-2016-0611, at http://www.regulations.gov or via email to R6_TX-BART@epa.gov. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the Web, cloud, or other file sharing system). For additional submission methods, please contact Joe Kordzi, 214-665-7186, Kordzi.joe@epa.gov. For the full EPA public comment policy, information about CBI or multimedia submissions, and general guidance on making effective comments, please visit http://www2.epa.gov/dockets/commenting-epa-dockets.

Docket: The index to the docket for this action is available electronically at http://www.regulations.gov and in hard copy at the EPA Region 6, 1445 Ross Avenue, Suite 700, Dallas, Texas. While all documents in the docket are listed in the index, some information may be publicly available only at the hard copy location (e.g., copyrighted material), and some may not be publicly available at either location (e.g., CBI).

The Texas regional haze SIP is available online at: https://www.tceq.texas.gov/airquality/sip/bart/haze_sip.html. It is also available for public inspection during official business hours, by appointment, at the Texas Commission on Environmental Quality, Office of Air Quality, 12124 Park 35 Circle, Austin, Texas 78753.

FOR FURTHER INFORMATION CONTACT: Joe Kordzi, Air Planning Section (6PD-L), Environmental Protection Agency, Region 6, 1445 Ross Avenue, Suite 700, Dallas, Texas 75202-2733, telephone 214-665-7186; fax number 214-665-7263; email address Kordzi.joe@epa.gov.

SUPPLEMENTARY INFORMATION: Throughout this document wherever “we,” “us,” or “our” is used, we mean the EPA.

On January 4, 2017, we published in the Federal Register a proposed rule pertaining to regional haze and interstate visibility transport (82 FR 912). Specifically, we proposed to (1) partially disapprove a portion of the Texas SIP pertaining to the PM BART requirement for EGUs, (2) address the BART requirement for Texas EGUs through a FIP including source-specific BART limits on 29 EGUs for PM and sulfur dioxide (SO2) and a finding that NOx BART for EGUs in Texas is met by participation in the Cross-State Air Pollution Rule (CSAPR), (3) reconsider and re-propose disapproval of portions of several SIP revisions submitted to satisfy the requirement to address interstate visibility transport for six NAAQS, and (4) determine that the proposed BART FIP emission limits would meet the interstate visibility transport requirements for these NAAQS, satisfying any FIP obligations that would follow from disapprovals of the SIP revisions on requirements to address interstate visibility transport. We received several requests for an extension of the comment period and, in response, have decided to allow an additional 60 days. We are extending the comment period to May 5, 2017.

List of Subjects in 40 CFR Part 52

Environmental protection, Air pollution control, Incorporation by reference, Intergovernmental relations, Nitrogen dioxide, Ozone, Particulate matter, Reporting and recordkeeping requirements, Sulfur dioxides, Visibility, Interstate transport of pollution, Regional haze, Best available control technology.

Authority: 42 U.S.C. 7401 et seq.

Dated: February 9, 2017.
Wren Stenger,
Multimedia Division Director, Region 6.

[FR Doc. 2017-03478 Filed 2-23-17; 8:45 am]

BILLING CODE P